DEPARTMENT OF COMMERCE

National Oceanic and Atmospheric Administration

[RTID 0648-XA197]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Tuesday, June 16, 2020, from 9 a.m. to 4:30 p.m.; Wednesday, June 17, 2020, from 9 a.m. to 4 p.m.; and, Thursday, June 18, 2020, from 9 a.m. to 1 p.m. For agenda details, see SUPPLEMENTARY INFORMATION.

ADDRESSES: Due to public health concerns related to the spread of the coronavirus, the Mid-Atlantic Fishery Management Council's June meeting will be conducted by webinar only. This webinar-based meeting replaces the in-person meeting previously scheduled to be held in Virginia Beach, VA. Please see the Council's website (www.mafmc.org) for log-in procedures.

Council address: Mid-Atlantic Fishery Management Council, 800 N State St., Suite 201, Dover, DE 19901; telephone: (302) 674-2331.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible).

Tuesday, June 16, 2020

Summer Flounder Commercial/Recreational Allocation Study Model Update

Review updated economic model results.

Black Sea Bass Commercial State Allocation Amendment

Review scoping comments and PDT recommendations and discuss draft range of alternatives.

Summer Flounder, Scup, and Black Sea Bass Commercial/Recreational Allocation Amendment

Review FMAT recommendations and refine range of draft alternatives.

Recreational Reform Initiative

Review Steering Committee and Monitoring Committee input and determine next steps.

Wednesday, June 17, 2020

Bluefish Allocation and Rebuilding Amendment

Review FMAT recommendations and refine range of draft alternatives.

Mackerel, Squid, Butterfish Committee, Meeting as a Committee of the Whole—Illex Specifications

Review SSC, Advisory Panel, Monitoring Committee, and staff recommendations and adopt and/or revise 2020-21 specifications.

Update on Habitat Activities

Update on progress on Northeast Regional Habitat Assessment, overview of Habitat Climate Vulnerability Assessment results, Habitat Conservation Division review of regional projects of interest, including offshore wind, and developments at the Regional Offshore Science Alliance (ROSA).

Unmanaged Landings Update

Review annual report on landings of unmanaged species.

Thursday, June 18, 2020

Business Session

Committee Reports: SSC, Research Steering Committee; Executive Director's Report; Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Authority: 16 U.S.C. 1801 et seq.

Dated: May 22, 2020.
Tracey L. Thompson,
Acting Deputy Director, Office of Sustainable Fisheries, National Marine Fisheries Service.

[FR Doc. 2020-11483 Filed 5-27-20; 8:45 am]

BILLING CODE 3510-22-P